DEPARTMENT OF HEALTH AND HUMAN SERVICES

Health Care Financing Administration

[HCFA-1153-N]

Medicare Program; Open Town Hall Meeting To Discuss Medicare Policy for Community Mental Health Centers on September 25, 2000

AGENCY: Health Care Financing Administration (HCFA), HHS.

ACTION: Notice of meeting.

SUMMARY: This notice announces a town hall meeting to provide an opportunity for community mental health centers (CMHCs), Medicare beneficiaries, advocates for the mentally ill, and other interested parties to address our staff in an effort to promote full understanding of our regulations and instructions on our partial hospitalization benefit.

DATES: September 25, 2000, from 8:30 a.m. until 12:30 p.m. C.D.T.

ADDRESSES: The meeting will be held at the Hilton Houston Hobby Airport, 818 Airport Boulevard, Houston, Texas 77061 located at the airport in Houston. Special arrangements have been made with the Hilton to hold a number of rooms for out of town guests interested in attending. To reserve your room, please call the Hilton directly at (713) 645-3000 no later than September 15, 2000. When calling to make a reservation, refer to the town hall Meeting.

FOR FURTHER INFORMATION CONTACT: Janet Samen, (410) 786-9161. Health Care Financing Administration, 7500 Security Blvd., Mail Stop C5-05-27, Baltimore, Maryland 21244.

SUPPLEMENTARY INFORMATION:

I. Background

We are announcing a town hall meeting to provide an opportunity for the public, especially community mental health centers (CMHCs) and other advocates for the mentally ill to raise issues regarding the Medicare partial hospitalization benefit and other issues related to CMHCs. This town hall meeting provides a forum for CMHC providers to address us and express their views regarding our partial hospitalization policies and operational procedures. We intend to discuss the results of the CMHC initiative undertaken over the last year and our future plans regarding CMHCs and the partial hospitalization benefit.

II. Format of Meeting

We will begin the meeting with an overview of CMHC and partial hospitalization policy from our staff. This will be followed by remarks by members of Congress, and presentations from interested parties. Any member of the public may file a written statement to the For Further Information Contact. Although we will make an effort to allow for ad hoc comments from meeting participants, individuals who wish to make a presentation are urged to contact David Wright at (214) 767-6346 as soon as possible. There will be a limited time for participants to make presentations; participants will speak in the order in which they sign up. While the meeting is open to the public, attendance is limited to space available. Individuals must register in advance as described below.

III. Registration

J.W. Associates, LLC, as contractor for us, will handle registration for the meeting. Individuals may register by sending an e-mail to jwallc.com or telephone (301) 495-9471. At the time of registration, please provide your name, address, telephone number, and e-mail address. Receipt of your e-mail or telephone registration will constitute confirmation of your registration. We will provide you with meeting materials at the time of the meeting. If you have questions regarding registration, please contact Em'Ria Briscoe at (301) 495-9471.

Authority: Section 1871 of the Act (42 U.S.C. 1395hh).

(Catalog of Federal Domestic Assistance Program No. 93.773 Medicare—Hospital Insurance Program; and No. 93.774, Medicare—Supplementary Medical Insurance Program)
Dated: September 4, 2000.
Nancy-Ann Min DeParle,
Administrator, Health Care Financing Administration.

[FR Doc. 00-23138 Filed 9-7-00; 8:45 am]

BILLING CODE 4120-01-P